DEPARTMENT OF THE INTERIOR

Bureau of Land Management

[OR128-6332; 01-0009]

Emergency Road Closure

AGENCY: Bureau of Land Management, U.S. Department of Interior.

ACTION: Notice of emergency road closure.

SUMMARY: Emergency closure of Bureau of Land Management (BLM) Road No. 29-11-24.0, which is within R.11 W., T.29 S., Sections 23 and 24, Williamette Meridian, in the Coos Bay District, Coos County, Oregon. This action is being taken to prevent further degradation of culturally-sensitive areas within the Coquille Forest. The Coquille Forest is administered by the Bureau of Indian Affairs for the Coquille Indian Tribe, and was administered by the BLM prior to congressional designation of the Coquille Forest. This action is intended to prevent unauthorized entry of four-wheel vehicles onto meadow areas which can be accessed using BLM Road No. 29-11-24.0, while continuing to allow for pedestrian, equestrian and bicycle use. This emergency closure is for a period of one year, while the BLM prepares an environment assessment with public participation to analyze the proposal for a long term closure of Road 29-11-24.0. This closure order is in accordance with provisions of the Federal Land Policy and Management Act of 1976 (43 U.S.C. 1701) and 43 CFR 8364.1.

DATES: Emergency road closure extends from December 1, 2000 through November 31, 2001.

ADDRESSES: Address all comments concerning this emergency road closure to Stephan R. Samuels, Team Lead, Coos Bay BLM District, 1300 Airport Lane, North Bend, Oregon, 97459.

FOR FURTHER INFORMATION CONTACT: Stephan R. Samuels, 541-751-4244.

Dated: October 19, 2000.
Karla Bird,
Myrtlewood Field Manager.

[FR Doc. 00-27668 Filed 10-26-00; 8:45 am]

BILLING CODE 4310-33-P